DEPARTMENT OF ENERGY

Federal Energy Regulatory Commission

[Project No.: 2618-020]

Domtar Maine Corporation; Notice of Intent To Prepare an Environmental Assessment and Notice of Scoping Meetings and Site Visit and Soliciting Scoping Comments

July 10, 2009.

Take notice that the following hydroelectric application has been filed with the Commission and is available for public inspection.

a. Type of Application: New License.

b. Project No.: 2618-020.

c. Date Filed: March 19, 2009.

d. Applicant: Domtar Maine Corporation.

e. Name of Project: West Branch Project.

f. Location: On Grand Lake Stream, a tributary of the St. Croix River in Penobscot, Washington and Hancock Counties, Maine.

g. Filed Pursuant to: Federal Power Act 16 U.S.C. 791(a)-825(r).

h. Applicant Contact: Mr. Scott Beal, Domtar Maine Corporation, 144 Main Street, Baileyville, Maine 04694, (207) 427-4004.

i. FERC Contact: John Costello, (202) 502-6119 or john.costello@ferc.gov.

j. Deadline for filing scoping comments: September 11, 2009.

All documents (original and eight copies) should be filed with: Kimberly D. Bose, Secretary, Federal Energy Regulatory Commission, 888 First Street, NE., Washington, DC 20426.

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

Scoping comments may be filed electronically via the Internet in lieu of paper. The Commission strongly encourages electronic filings. See 18 CFR 385.2001(a)(1)(iii) and the instructions on the Commission's Web site at http://www.ferc.gov under the “e-Filing” link.

k. This application is not ready for environmental analysis at this time.

l. Project Description: The existing West Branch Project includes two developments (Sysladobsis and West Grand) comprising two dams and a dike. The 23,500 acre impounded waters are comprised of West Grand, Junior, Pocumcus, Pug, Bottle, Norway, and Scraggly lakes.

The Sysladobsis development includes the 250-foot-long by 9-foot-high Sysladobsis Dam (the furthest upstream), an earth embankment structure with a timber gate and fish facility. The dam impounds the 5,400-acres Sysladobsis Lake and discharges directly into the West Grand development.

The West Branch development includes the approximately 487-foot-long West Grand Dam comprises a 105.9-foot-long gate structure with five gates. A vertical slot design upstream fish passage facility is located adjacent to the dam's waste gate No.1

The West Grand development includes approximately 535-foot-long by 15-foot-high Farm Cove Dike is located approximately 3.5 miles west of the main outlet dam to West Grand Lake. The dike comprises a 10-foot-wide by 30-foot-long fishway. The dike has no gates or other flow controls; the only flow passing capability is through the fishway. No new construction is planned.

m. Locations of the Application: A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at (866) 208-3676, or for TTY, (202) 502-8659. A copy is also available for inspection and reproduction by contacting the applicant using the contact information in item (h) above.

You may also register online at http://www.ferc.gov/esubscribenow.htm to be notified via e-mail of new filings and issuances related to this or other pending projects. For assistance, contact FERC Online Support.

n. Scoping Process: The Commission intends to prepare a single environmental assessment (EA) for the project which will include the Forest City Project (FERC No. P-2660- 024) (no draft EA would be prepared) in accordance with the National Environmental Policy Act. The EA will consider both site-specific and cumulative environmental impacts and reasonable alternatives to the proposed action.

Scoping Meetings

Commission staff will hold two scoping meetings in the vicinity of the project at the time and place noted below. The daytime meeting will focus on resource agency, Indian tribes, and non-governmental organization concerns, while the evening meeting is primarily for receiving input from the public. We invite all interested individuals, organizations, and agencies to attend one or both of these meetings and to assist staff in determining the scope of the environmental issues to be addressed in the environmental assessment. The times and locations of these meetings are as follows:

Daytime Scoping Meeting

Date: August 13, 2009.

Time: 10 a.m. (EST)

Place: Conference Room, Domtar Maine Administration Building.

Address: Domtar Maine Corporation, 144 Main Street, Baileyville, Maine 04694.

Evening Scoping Meeting

Date: August 13, 2009.

Time: 6 a.m. (EST)

Place: Conference Room, Domtar Maine Administration Building.

Address: Domtar Maine Corporation, 144 Main Street, Baileyville, Maine 04694.

The scoping document, which outlines the subject areas to be addressed in the environmental assessment, was mailed to the individuals and entities on the Commission's mailing list. Copies of the scoping document will be available at the scoping meetings or may be viewed on the Web at http://www.ferc.gov using the “eLibrary” link (see item m above). Based on all oral and written comments, a revised scoping document may be issued.

Site Visit

We will hold a site visit to the project on Wednesday, August 12, 2009, beginning at 9 a.m. (EST). To attend the site visit, meet at Domtar Maine Corporation's Administration Building located at 144 Main Street, Baileyville, Maine 04694. All participants are responsible for their own transportation and lunch. Anyone with questions about the site visit (or for directions) should contact Scott Beal at (207) 427-4004. Those individuals planning to participate in the site visit should notify Mr. Beal of their intent, no later than August 6, 2009.

Note that Commission staff may hold a site visit and/or meeting at the project at a later date to discuss any project-related effects to archaeological, historic, or traditional cultural properties.

Meeting Objectives

At the scoping meetings, staff will: (1) Summarize the environmental issues tentatively identified for analysis in the EA; (2) solicit from meeting participants all available information, especially quantifiable data, on the resources issues; (3) encourage statements from experts and the public on issues that should be analyzed in the EA, including viewpoints in opposition to, or in support of, the staff's preliminary views; (4) determine the resource issues to be addressed in the EA; and (5) identify those issues that require a detailed analysis, as well as those issues that do not require a detailed analysis.

Meeting Procedures

Scoping meetings will be recorded by a stenographer and will become part of the Commission's formal record for this proceeding.

Individuals, organizations, and agencies with environmental expertise and concerns are encouraged to attend the meetings and to assist staff in defining and clarifying the issues to be addressed in the EA.

Kimberly D. Bose,
Secretary.

[FR Doc. E9-16990 Filed 7-16-09; 8:45 am]

BILLING CODE 6717-01-P